DEPARTMENT OF DEFENSE

Office of the Secretary

Renewal of Department of Defense Federal Advisory Committees—Department of Defense Wage Committee

AGENCY: Department of Defense (DoD).

ACTION: Renewal of Federal advisory committee.

SUMMARY: The DoD is publishing this notice to announce that it is renewing the DoD Wage Committee (“the DoD Wage Committee”).

FOR FURTHER INFORMATION CONTACT: Jim Freeman, Advisory Committee Management Officer for the DoD, 703-697-1142.

SUPPLEMENTARY INFORMATION: The DoD Wage Committee is being renewed, pursuant to 5 United States Code (U.S.C.) 5343, as implemented by 5 Code of Federal Regulations (CFR) 532.209 and 532.227, and in accordance with the provisions of 5 U.S.C. chapter 10 (commonly referred to as the “Federal Advisory Committee Act” or “FACA”) and 41 CFR chapter 102-3.50(c), as a discretionary advisory committee. The charter and contact information for the DoD Wage Committee's Designated Federal Officer (DFO) are found at https://www.facadatabase.gov/FACA/apex/FACAPublicAgencyNavigation.

The DoD Wage Committee's work is directed by 5 CFR 532.209, 532.227, 532.231(e), and 532.243 and the Office of Personnel Management Operating Manual, Federal Wage System, Appropriated and Non-Appropriated Funds, S3-2 Agency Level. The DoD Wage Committee shall: (a) consider and make recommendations to the DoD on any matter involved in developing specifications for a wage survey on which the DoD proposes not to accept the recommendations of a local wage survey committee and any matters on which a minority report has been filed; (b) consider the survey data, upon completion of a wage survey, of the local wage survey committee's report and recommendations, and the statistical analyses and proposed pay schedules derived from them, as well as any other data or recommendations pertinent to the survey, and recommends wage schedules to the pay-fixing authority; and (c) have a majority of the DoD Wage Committee to constitute a decision and recommendation of the DoD Wage Committee, but a member of the minority may file a report with the DoD Wage Committee's recommendations.

The DoD Wage Committee, pursuant to 5 CFR 532.227(b), shall consist of five members, with the chair and two members designated by the head of the DoD. Of the remaining two members, pursuant to 5 CFR 532.227(b)(1), one member shall be designated by each of the two labor organizations having the largest number of wage employees covered by exclusive recognition in the DoD.

The appointment of DoD Wage Committee members will be approved by the DoD Appointing Authority for a term of service of one-to-four years, with annual renewal, in accordance with DoD policy and procedures. No member, unless approved by the DoD Appointing Authority, may serve more than two consecutive terms of service on the DoD Wage Committee, or serve on more than two DoD Federal advisory committees at one time.

DoD Wage Committee members who are not full-time or permanent part-time Federal civilian officers or employees, or active-duty members of the Uniformed Services, shall be appointed as experts or consultants pursuant to 5 U.S.C. 3109 to serve as special government employee members, except when otherwise provided by law or regulation. DoD Wage Committee members who are full-time or permanent part-time Federal civilian officers or employees, or active-duty members of the Uniformed Services, shall be designated to serve as regular government employee members pursuant to 41 CFR 102-3.130(a). As determined by the DoD Appointing Authority, the individuals designated by each of the two labor organizations having the largest number of wage employees covered by exclusive recognition in the DoD shall be appointed pursuant to 41 CFR 102-3.130(a) to serve as representative members consistent with 5 CFR 532.227(b)(1). Individual members who are appointed to serve as representative members shall represent the views of their designated labor organizations.

All RGE and SGE members of the DoD Wage Committee are appointed to exercise their own best judgment on behalf of the DoD, without representing any particular point of view, and to discuss and deliberate in a manner that is free from conflict of interest. With the exception of reimbursement of official DoD Wage Committee-related travel and per diem, DoD Wage Committee members serve without compensation.

The public or interested organizations may submit written statements to the DoD Wage Committee about the DoD Wage Committee's mission and functions. Written statements may be submitted at any time or in response to the stated agenda of planned meeting of the DoD Wage Committee. All written statements shall be submitted to the DFO for the DoD Wage Committee, and this individual will ensure that the written statements are provided to the membership for their consideration.

Dated: December 10, 2024.
Aaron T. Siegel,
Alternate OSD Federal Register Liaison Officer, Department of Defense.

[FR Doc. 2024-29431 Filed 12-12-24; 8:45 am]

BILLING CODE 6001-FR-P